DEPARTMENT OF TRANSPORTATION

Research and Special Programs Administration (RSPA)

[Docket No. RSPA-98-4470]

Pipeline Safety: Technical Pipeline Safety Standards Committees; Vacancies

AGENCY: Office of Pipeline Safety, Research and Special Programs Administration, DOT.

ACTION: Notice; request for applications.

SUMMARY: The Research and Special Programs Administration's (RSPA) Office of Pipeline Safety (OPS) seeks applications for membership on the Technical Pipeline Safety Standards Committee (TPSSC) and the Technical Hazardous Liquid Pipeline Safety Standards Committee (THLPSSC). The TPSSC and the THLPSSC review and report on proposed standards relating to the transportation of gas or hazardous liquids through pipelines or of the operation of gas or hazardous liquid pipeline facilities.

DATES: Application forms should reach RSPA/OPS on or before October 15, 2003.

ADDRESSES: You may request an application form by writing to Research and Special Programs Administration, Office of Pipeline Safety (DPS-12), U.S. Department of Transportation, 400 Seventh Street, SW., Washington, DC 20590; by calling 202-493-0967; or by faxing 202-366-4566; or by e-mailing Jean.Milam@rspa.dot.gov. Send your application in written form to the above street address. This notice and the application form are available on the Internet at http://dms.dot.gov under docket number 4470.

FOR FURTHER INFORMATION CONTACT: Cheryl Whetsel, OPS, (202) 366-4431 or Richard Huriaux, OPS, (202) 366-4565, regarding the subject matter of this notice.

SUPPLEMENTARY INFORMATION: The Technical Pipeline Safety Standards Committee (TPSSC) and the Technical Hazardous Liquid Pipeline Safety Standards Committee (THLPSSC) are statutorily mandated Federal advisory committees that advise RSPA/OPS on proposed safety standards for gas and liquid pipelines. Federal law requires that RSPA/OPS submit cost-benefit analyses and risk assessment information on proposed safety standards to the advisory committees. The TPSSC and the THLPSSC evaluate the merits of the data provided and the methods used within the analyses to provide recommendations relating to the cost-benefit analyses. Both of the committees are tasked with determining reasonableness, cost-effectiveness, and practicability of RSPA/OPS proposed pipeline safety regulations. Each member must be experienced in the safety regulation of transporting natural gas or hazardous liquids or operating a hazardous liquid pipeline facility or, must be technically qualified, by training experience or knowledge, in at least one field of engineering applicable to transporting gas or hazardous liquids or operating a hazardous liquid pipeline facility.

Each Committee consists of 15 members. Five members each are selected from Federal, State, or local governmental agencies. Two of these are State Commissioners selected after consultation with representatives of the national organization of State Commissions. Five members are selected from the natural gas or hazardous liquids pipeline industry, after consultation with industry representatives. Three must be currently engaged in the active operation of pipelines and at least one of the three must have education background or experience in risk assessment and cost-benefit analysis. Five members are to be selected from the general public. Individuals selected as public members may not have a significant financial interest in the pipeline, petroleum, or natural gas industry. Two of the public members must have education, background, or experience in environmental protection or public safety, and at least one of these will have education, background or experience in risk assessment and cost-benefit analysis.

The Committees meet at least twice during each calendar year. In addition, Committee members may be polled or asked for comments on notices of proposed rulemaking or other matters at any time without formally assembling at one place.

We will consider applications for 11 positions that expire or become vacant in mid-2003 in the following categories: (a) Federal, state, or local government (1 liquid vacancy; 3 gas vacancies—one must be a Commissioner); (b) Natural Gas/Hazardous Liquid Industry (No vacancies at this time); (c) General Public (5 liquid vacancies and 2 gas vacancies).

Each member serves a 3-year term, but may be reappointed. All members serve at their own expense and receive no salary from the Federal Government, although travel reimbursement and per diem are provided.

In support of the policy of the Department of Transportation on gender and ethnic diversity, we encourage qualified women and members of minority groups to apply.

We may not release a completed application or the information in it to the public, except under an order issued by a Federal court or as otherwise provided under the Privacy Act (5 U.S.C. 552a).

Authority: 49 U.S.C. 60102, 60115.

Issued in Washington, DC on August 21, 2003.
Stacey L. Gerard,
Associate Administrator for Pipeline Safety.

[FR Doc. 03-21964 Filed 8-26-03; 8:45 am]

BILLING CODE 4910-60-P